Proclamation 10444 of September 9, 2022

National Grandparents Day, 2022

By the President of the United States of America

A Proclamation

On National Grandparents Day and every day, we give thanks to grandparents for their wisdom, strength, and love.

Grandparents are storytellers and gatekeepers of family tradition. They are wellsprings of knowledge and experience. They are the centerpieces of family gatherings and the glue that keeps so many families together. Grandparents also help raise children. They shuttle grandkids to-and-from school, babysit when parents are away from home, and offer advice and comfort when it is needed most. Sometimes they fill in as primary caregivers, putting aside their own needs and working full-time to provide the blessing of a loving family. I know from my own experience how grandparents can step up in critical moments. When my father lost his job in Scranton, Pennsylvania, my grandpop welcomed us into his home and offered us stability during a time of uncertainty.

While this is a day of celebration, it is also an opportunity to remember the grandparents who are no longer with us. The COVID-19 pandemic cut short the lives of too many loved ones—especially our seniors. My Administration sends strength to families who are no longer whole and to families whose grandparents are fighting for their health today. We also send encouragement to families who postponed gatherings and loving embraces during the pandemic. For Jill and me, our grandchildren are the love of our lives and the life of our love. We know how difficult it can be to remain physically apart, and we hope that the progress we have made—and continue to make—in ending the COVID-19 pandemic will allow more families to safely enjoy precious time together. Finally, we acknowledge that, for many Americans, grandparents live on only through the stories of relatives who were fortunate enough to have known them, but that these bonds can be powerful too.

As we look ahead, my Administration will continue advocating for grandparents, especially as they care for children. The Department of Health and Human Services (HHS) is preparing a National Caregiving Strategy to present the Congress with new recommendations to better support family caregivers. And, my Administration is committed to making health care more affordable for more Americans, including seniors—many of whom are grandparents. As part of the Inflation Reduction Act, seniors and other Medicare beneficiaries will have the peace of mind of knowing that their prescription drug costs are capped at $2,000 annually. And millions of seniors will benefit from Medicare finally being able to negotiate prescription drug costs. My Administration will always protect Medicare and Social Security. Ensuring that seniors can age with dignity, security, and respect is not only the right thing to do—it is integral to our character as a Nation.

Many of our grandparents arrived in this country with nothing but a dream and an unwavering commitment to ensure that the lives of their children and grandchildren would be better than their own. Regardless of where they came from or how they got here, they have worked hard, planted roots, and built communities. They have had big hopes for us, and through our ups and downs, they have continued to love us just the same—because that is what grandparents do. On National Grandparents Day, let us honor the grandparents who teach us lessons, imbue us with family pride, and shower us with affection. On behalf of a grateful Nation, we thank you for the gifts of life and love.

NOW, THEREFORE, I, JOSEPH R. BIDEN JR., President of the United States of America, by virtue of the authority vested in me by the Constitution and the laws of the United States, do hereby proclaim September 11, 2022, as National Grandparents Day. I call upon all Americans to celebrate the important role that grandparents play in the lives of their families and the children they love.

IN WITNESS WHEREOF, I have hereunto set my hand this ninth day of September, in the year of our Lord two thousand twenty-two, and of the Independence of the United States of America the two hundred and forty-seventh.

[FR Doc. 2022-20005

Filed 9-13-22; 8:45 am]

Billing code 3395-F2-P